JUDICIAL CONFERENCE OF THE UNITED STATES

Meeting of the Judicial Conference Advisory Committee on Rules of Criminal Procedure

AGENCY: Judicial Conference of the United States Advisory Committee on Rules of Criminal Procedure.

ACTION: Notice of open meeting.

SUMMARY: The Advisory Committee on Rules of Criminal Procedure will hold a two-day meeting. The meeting will be open to public observation but not participation.

DATE: September 27-28, 2010.

TIME: 8:30 a.m. to 5 p.m.

ADDRESSES: The Charles Hotel, 1 Bennett Street, Cambridge, MA 02138.

FOR FURTHER INFORMATION CONTACT: John K. Rabiej, Chief, Rules Committee Support Office, Administrative Office of the United States Courts, Washington, DC 20544, telephone (202) 502-1820.

Dated: June 3, 2010.
John K. Rabiej,
Chief, Rules Committee Support Office.

[FR Doc. 2010-13966 Filed 6-8-10; 8:45 am]

BILLING CODE 2210-55-P